FEDERAL MINE SAFETY AND HEALTH REVIEW COMMISSION

Sunshine Act Meeting

TIME AND DATE: 2 p.m., Thursday, March 31, 2011.

PLACE: The Richard V. Backley Hearing Room, 9th Floor, 601 New Jersey Avenue, NW., Washington, DC.

STATUS: Open.

MATTERS TO BE CONSIDERED: The Commission will hear oral argument in the matter Secretary of Labor v. Cumberland Coal Resources, LP, Docket No. PENN 2008-189. (Issues include whether the judge erred in determining that four violations of 30 CFR 75.380(d)(7)(iv), which requires effective escapeway lifelines, were not “significant and substantial.”) Any person attending this oral argument who requires special accessibility features and/or auxiliary aids, such as sign language interpreters, must inform the Commission in advance of those needs. Subject to 29 CFR 2706.150(a)(3) and 2706.160(d).

CONTACT PERSON FOR MORE INFO: Jean Ellen (202) 434-9950/(202) 708-9300 for TDD Relay/1-800-877-8339 for toll free.

Dated: March 18, 2011.
Emogene Johnson,
Administrative Assistant.

[FR Doc. 2011-7130 Filed 3-22-11; 4:15 pm]

BILLING CODE 6735-01-P